FEDERAL COMMUNICATIONS COMMISSION

47 CFR Part 32

[CC Docket No. 02-269; FCC 02-309]

Federal-State Joint Conference on Accounting Issues

AGENCY: Federal Communications Commission.

ACTION: Final rule; delay of effective date.

SUMMARY: This order suspends the implementation of four previously adopted accounting and reporting rule changes until July 1, 2003 to allow the recently established Federal-State Joint Conference on Accounting Issues to review them because of the great interest in these changes by Joint Conference members.

DATES: The effective date for amendments to 47 CFR 32.5200, 32.6562 and 32.6620 published at 67 FR 5670, February 6, 2002, is further delayed until July 1, 2003.

FOR FURTHER INFORMATION CONTACT: Jane Jackson, Associate Chief, Wireline Competition Bureau, (202) 418-1500.

SUPPLEMENTARY INFORMATION: On November 5, 2001, the Commission released a Report and Order, 67 FR 5670, February 6, 2002, as part of its biennial review of accounting requirements and Automated Reporting Management Information System (ARMIS) reporting requirements. In the order, the Commission adopted a number of accounting and reporting requirement reforms. The reforms included the creation of several new part 32 Uniform System of Accounts subaccounts and the elimination or modification of other part 32 accounts and subaccounts and modification of ARMIS reporting requirements. Changes to the part 32 accounting rules are scheduled to take effect January 1, 2003. On March 8, 2002, BellSouth Corporation, SBC Communications Inc., and Verizon filed a joint petition for reconsideration asking that two newly-created subaccounts—the wholesale and retail subaccounts to Account 6620, Services—be eliminated. The petitioners also requested that the Commission change the reporting of “Loop Sheath Kilometers” back to “Sheath Kilometers.” The petitioners argued that the Commission should delay implementation of the relevant rule changes pending review of the arguments raised in their earlier reconsideration petition. The petitioners asserted that implementation of the rule changes will be very costly and time-consuming, and requested that they not be required to undertake this work while the Commission considers their petition. AT&T Corp. opposed both the petition for reconsideration and the request to delay implementation. On September 5, 2002, the Commission convened the Federal-State Joint Conference on Accounting Issues, which is undertaking “a cooperative federal and state review of regulatory accounting and reporting requirements in order to determine their adequacy and effectiveness in the current market and make recommendations for improvements.” In preliminary discussions, members of the Joint Conference identified the following two part 32 accounting changes adopted earlier that they believe should be subject to further consideration before implementation: the consolidation of Account 5230, Directory revenue, with other miscellaneous revenue accounts into Account 5200, Miscellaneous revenue; and the consolidation of the depreciation and amortization expense accounts (Accounts 6561 through 6565) into Account 6562, Depreciation and amortization expenses. The Commission believes that further consideration of these changes by the Joint Conference is reasonable and defers the implementation of the following accounting and reporting requirement rule changes for six months: (1) The consolidation of Accounts 6621 through 6623 into Account 6620, with subaccounts for wholesale and retail; (2) the consolidation of Account 5230, Directory revenue, into Account 5200, Miscellaneous revenue; (3) the consolidation of the depreciation and amortization expense accounts (Accounts 6561 through 6565) into Account 6562, Depreciation and amortization expenses; and (4) the revised “Loop Sheath Kilometers” data collection in Table II of ARMIS Report 43-07. The effective date for the rule changes to Accounts 5200, 6562, and 6620 had earlier been extended to January 1, 2003, published on April 24, 2002, at 67 FR 20052, and now are further extended to July 1, 2003. The change affecting ARMIS Report 43-07 is extended to July 1, 2003.

Federal Communications Commission.
Jane E. Jackson,
Associate Chief, Wireline Competition Bureau.

[FR Doc. 02-31606 Filed 12-17-02; 8:45 am]

BILLING CODE 6712-01-P